DEPARTMENT OF COMMERCE

National Oceanic and Atmospheric Administration

[I.D. 022603A]

Proposed Information Collection; Comment Request; Gulf of Mexico Shrimp Mandatory Vessel Owner Economic Data Collection

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 5, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Michael Travis, Department of Commerce, NOAA, National Marine Fisheries Service, 9721 Executive Center Drive North, St, Petersburg, FL 33702-2439, (727) 570-5335.

SUPPLEMENTARY INFORMATION:

I. Abstract

NOAA proposes to collect census-level information on fishing vessel and gear characteristics in the Gulf of Mexico shrimp fishery (Exclusive Economic Zone only) to conduct economic analyses that will improve fishery management decision-making in that fishery; satisfy NOAA's legal mandates under Executive Order 12866, the Magnuson-Stevens Fishery Conservation and Management Act (U.S.C. 1801 et seq.), the Regulatory Flexibility Act, the Endangered Species Act, and the National Environmental Policy Act; and quantify achievement of the performance measures in the National Marine Fisheries Service Strategic Operating Plans. Used in conjunction with landings and price data already being collected in this fishery as part of the dealer reporting program, and economic data to be collected under a voluntary program (implementation of which is expected later this year), this data will be used to properly describe the fishery and its operations. The collected information will also help to assess how fishermen will be impacted by and respond to any regulation likely to be considered by fishery managers. In addition, this data will be used to determine how fishing communities will be impacted by proposed fishing regulations.

II. Method of Collection

The vessel and gear characterization form will be mailed to all vessel owners who either currently have or who apply for Gulf of Mexico federal shrimp permits. Vessel owners will be asked for information about the nature and extent of their operations in the Gulf shrimp fishery, as well the types of electronic equipment and gear they use to conduct this fishery. Submission of a completed vessel and gear characterization form would be mandatory.

III. Data

OMB Number: None.

Form Number: None.

Type of Review: Regular submission.

Affected Public: Business or other for-profit organizations.

Estimated Number of Respondents: 5,250.

Estimated Time Per Response: 20 minutes.

Estimated Total Annual Burden Hours: 1,750.

Estimated Total Annual Cost to Public: $0. (Costs exclude valuation of respondents' time.)

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 25, 2003.
Gwellnar Banks,
Management Analyst, Office of the Chief Information Officer.

[FR Doc. 03-5046 Filed 3-3-03; 8:45 am]

BILLING CODE 3510-22-S